DEPARTMENT OF ENERGY

Federal Energy Regulatory Commission

Combined Notice of Filings #1

Take notice that the Commission received the following electric corporate filings:

Docket Numbers: EC21-67-000.

Applicants: Ventura Energy Storage, LLC.

Description: Application for Authorization Under Section 203 of the Federal Power Act of Ventura Energy Storage, LLC.

Filed Date: 3/22/21.

Accession Number: 20210322-5462.

Comments Due: 5 p.m. ET 4/12/21.

Take notice that the Commission received the following exempt wholesale generator filings:

Docket Numbers: EG21-112-000.

Applicants: Maverick Solar 6, LLC.

Description: Notice of Self-Certification of Exempt Wholesale Generator Status of Maverick Solar 6, LLC.

Filed Date: 3/22/21.

Accession Number: 20210322-5405.

Comments Due: 5 p.m. ET 4/12/21.

Docket Numbers: EG21-113-000.

Applicants: Samson Solar Energy LLC.

Description: Notice of Self-Certification of Exempt Wholesale Generator Status of Samson Solar Energy LLC.

Filed Date: 3/22/21.

Accession Number: 20210322-5454.

Comments Due: 5 p.m. ET 4/12/21.

Docket Numbers: EG21-114-000.

Applicants: Hawtree Creek Farm Solar, LLC.

Description: Notice of Self-Certification of Exempt Wholesale Generator Status of Hawtree Creek Farm Solar, LLC.

Filed Date: 3/22/21.

Accession Number: 20210322-5455.

Comments Due: 5 p.m. ET 4/12/21.

Docket Numbers: EG21-115-000.

Applicants: Maverick Solar 7, LLC.

Description: Notice of Self-Certification of Exempt Wholesale Generator Status of Maverick Solar 7, LLC.

Filed Date: 3/22/21.

Accession Number: 20210322-5456.

Comments Due: 5 p.m. ET 4/12/21.

Take notice that the Commission received the following electric rate filings:

Docket Numbers: ER10-3117-009; ER10-3115-008; ER11-4060-010; ER11-4061-010; ER13-445-010; ER14-2823-008; ER15-1170-006; ER15-1171-006; ER15-1172-006; ER15-1173-006.

Applicants: Lea Power Partners, LLC, Waterside Power, LLC, Badger Creek Limited, Double C Generation Limited Partnership, High Sierra Limited, Kern Front Limited, Bear Mountain Limited, Chalk Cliff Limited, Live Oak Limited, McKittrick Limited.

Description: Notice of Change in Status of Lea Power Partners, LLC, et al.

Filed Date: 3/22/21.

Accession Number: 20210322-5472.

Comments Due: 5 p.m. ET 4/12/21.

Docket Numbers: ER20-844-001.

Applicants: Hamilton Projects Acquiror, LLC.

Description: Notice of Non-Material Change in Status of Hamilton Projects Acquiror, LLC.

Filed Date: 3/22/21.

Accession Number: 20210322-5516.

Comments Due: 5 p.m. ET 4/12/21.

Docket Numbers: ER20-1776-001.

Applicants: Yards Creek Energy, LLC.

Description: Compliance filing: Reactive Service Rate Schedule Compliance Filing to be effective 3/5/2021.

Filed Date: 3/23/21.

Accession Number: 20210323-5027.

Comments Due: 5 p.m. ET 4/13/21.

Docket Numbers: ER21-726-001.

Applicants: PJM Interconnection, L.L.C.

Description: Tariff Amendment: Response to the Commission's 2/18/2021 Deficiency Letter re: 2021 Annual RTEP to be effective 1/1/2021.

Filed Date: 3/22/21.

Accession Number: 20210322-5277.

Comments Due: 5 p.m. ET 4/12/21.

Docket Numbers: ER21-1498-000.

Applicants: Hawtree Creek Farm Solar, LLC.

Description: Baseline eTariff Filing: Application for Market-Based Rate Authorization, Request for Related Waivers to be effective 5/22/2021.

Filed Date: 3/22/21.

Accession Number: 20210322-5296.

Comments Due: 5 p.m. ET 4/12/21.

Docket Numbers: ER21-1499-000.

Applicants: ADG Group Inc.

Description: Notice of Cancellation of Market Based Rate Tariff of ADG Group Inc.

Filed Date: 3/22/21.

Accession Number: 20210322-5458.

Comments Due: 5 p.m. ET 4/12/21.

Docket Numbers: ER21-1500-000.

Applicants: Tri-State Generation and Transmission Association, Inc.

Description: Tariff Cancellation: Notice of Cancellation of Rate Schedule FERC No. 171 to be effective 3/24/2021.

Filed Date: 3/23/21.

Accession Number: 20210323-5032.

Comments Due: 5 p.m. ET 4/13/21.

Docket Numbers: ER21-1501-000.

Applicants: Sandy Ridge Wind, LLC.

Description: § 205(d) Rate Filing: Reactive Rate Service as Rate Schedule FERC No. 1 to be effective 5/24/2021.

Filed Date: 3/23/21.

Accession Number: 20210323-5135.

Comments Due: 5 p.m. ET 4/13/21.

Docket Numbers: ER21-1502-000.

Applicants: Maverick Solar 6, LLC.

Description: Baseline eTariff Filing: Initial Market-Based Rate Petition of Maverick Solar 6 to be effective 4/30/2021.

Filed Date: 3/23/21.

Accession Number: 20210323-5147.

Comments Due: 5 p.m. ET 4/13/21.

Docket Numbers: ER21-1503-000.

Applicants: Maverick Solar 7, LLC.

Description: Baseline eTariff Filing: Initial Market-Based Rate Petition of Maverick Solar 7 to be effective 4/30/2021.

Filed Date: 3/23/21.

Accession Number: 20210323-5155.

Comments Due: 5 p.m. ET 4/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2021.
Nathaniel J. Davis, Sr.,
Deputy Secretary.

[FR Doc. 2021-06479 Filed 3-29-21; 8:45 am]

BILLING CODE 6717-01-P